DEPARTMENT OF AGRICULTURE

Natural Resources Conservation Service

[Docket No. NRCS-2023-0013]

Proposed Revisions to the National Handbook of Conservation Practices for the Natural Resources Conservation Service

AGENCY: Natural Resources Conservation Service, U.S. Department of Agriculture.

ACTION: Notice of availability, request for comments.

SUMMARY: The Natural Resources Conservation Service (NRCS) is revising specific conservation practice standards in the National Handbook of Conservation Practices (NHCP). This notice provides an overview of the planned changes and gives the public an opportunity to offer comments on the proposed changes to the specific conservation practice standards.

DATES: We will consider comments that we receive by July 31, 2023.

ADDRESSES: We invite you to submit comments in response to this notice. You may submit your comments through one of the following methods:

• Federal eRulemaking Portal: Go to http://www.regulations.gov and search for Docket ID NRCS-2023-0013. Follow the online instructions for submitting comments.

• Mail or Hand Delivery: National Agricultural Engineer, Conservation Engineering Division, NRCS, USDA, 1400 Independence Avenue, South Building, Room 4636, Washington, DC 20250. In your comment, please specify the Docket ID NRCS-2023-0013.

All comments received will be made publicly available on http://www.regulations.gov.

Copies of the proposed revised standards are available through http://www.regulations.gov by accessing Docket No. NRCS-2023-0013. Alternatively, the proposed revised standards can be downloaded or printed from https://www.nrcs.usda.gov/getting-assistance/conservation-practices.

FOR FURTHER INFORMATION CONTACT: Mr. William Reck at (202) 720-4485, or by email at bill.reck@usda.gov. Individuals who require alternative means for communication should contact the U.S. Department of Agriculture (USDA) Target Center at (202) 720-2600 (voice).

SUPPLEMENTARY INFORMATION:

Background

NRCS plans to revise the conservation practice standards in NHCP. This notice provides an overview of the planned changes and gives the public an opportunity to offer comments on the specific conservation practice standards and NRCS's proposed changes.

NRCS State Conservationists who choose to adopt these practices in their states will incorporate these practices into the respective electronic Field Office Technical Guide. These practices may be used in conservation systems that treat highly erodible land (HEL) or on land determined to be wetland. Section 343 of the Federal Agriculture Improvement and Reform Act of 1996 (Pub. L. 104-127) requires NRCS to make available for public review and comment all proposed revisions to conservation practice standards used to carry out HEL and wetland provisions of the law.

Revisions to NHCP

The extent of the proposed changes varies considerably for each of the conservation practice standards addressed in this notice. To fully understand the proposed changes, individuals are encouraged to compare these changes with each current standard, which can be found at: https://www.nrcs.usda.gov/resources/guides-and-instructions/conservation-practice-standards.

NRCS is requesting comments on the following conservation practice standards:

• Fish Raceway or Tank (Code 398);

• Irrigation Pipeline (Code 430);

• Stripcropping (Code 585); and

• Woody Residue Treatment (Code 384).

The following paragraphs highlight some of the proposed changes to each standard.

Fish Raceway or Tank (Code 398): The revised standard expands the practice purposes to include treatment of effluents before release into receiving waters as well as assessment and planning for increased system efficiency to conserve energy use. The revised standard makes clear that it applies to the production of aquatic organisms in general, and not just finfish. We added additional component details for flow‐through systems to the “Criteria” section for waste (effluent) management. We removed the species‐specific water quality requirements for the two species listed and replaced them with references to land‐grant university requirements. We added new content to the “Considerations” section to provide options for recirculating aquaculture system approaches that minimize water use and permit secondary use of wastewater (such as in aquaponics systems). Also, in the “Considerations” section, we added an additional evaluation of the effects of water withdrawal on native aquatic organisms. Finally, we made minor revisions throughout the standard to improve readability, and references were updated based on literature review.

Irrigation Pipeline (Code 430): We made minor rewording edits throughout the standard to improve readability. We added maximum permitted surge for a high-density polyethylene (HDPE) pipe to the “Flexible conduit design” subsection. We added a new subsection to address protection of pipeline and appurtenances was added to the “Considerations” section. We updated the “Additional Considerations for Economics” subsection to include the collapsible lay flat tubing application, replacement of which is considered operation and maintenance. We updated the “Additional Considerations for Water Quality and Quantity” subsection to include impacts to downstream drinking water and drought mitigation; we also updated references were also updated.

Stripcropping (Code 585): We edited the “Definition,” “Criteria,” and “Considerations” sections of the standard for clarity. We added a reference to the use of the “Implementation Requirement” document to the “Plans and Specifications” section.

Woody Residue Treatment (Code 384): We reduced the practice life span to 1 year and refined the “Purpose” section. We removed two purposes and combined two other purposes. We modified the burning criteria to follow the “Prescribed Burning” (Code 338). We refined the “Considerations,” “plans and Specifications,” and “Operation and Maintenance” sections, and updated references.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible agency or USDA's TARGET Center at (202) 720-2600 (voice and text telephone (TTY)) or dial 711 for Telecommunications Relay Service (both voice and text telephone users can initiate this call from any phone). Additionally, program information may be made available in languages other than English.

To file a program discrimination complaint, complete the USDA Program Discrimination Complaint Form, AD-3027, found online at the USDA web page on How to File a Program Discrimination Complaint and at any USDA office, or write a letter addressed to USDA and provide in the letter all the information requested in the form. To request a copy of the complaint form, call (866) 632-9992. Submit your completed form or letter to USDA by (1) mail to U.S. Department of Agriculture, Office of the Assistant Secretary for Civil Rights, 1400 Independence Avenue SW, Washington, DC 20250-9410; or (2) email to program.intake@usda.gov.

USDA is an equal opportunity provider, employer, and lender.

Terry Cosby,
Chief, Natural Resources Conservation Service.

[FR Doc. 2023-13929 Filed 6-29-23; 8:45 am]

BILLING CODE 3410-16-P